DEPARTMENT OF COMMERCE

Foreign-Trade Zones Board

Order No. 1459

Grant of Authority, Establishment of a Foreign-Trade Zone, Counties of Carroll and Jo-Daviess, Illinois

Pursuant to its authority under the Foreign-Trade Zones Act of June 18, 1934, as amended (19 U.S.C. 81a-81u), the Foreign-Trade Zones Board adopts the following Order:

Whereas, the Foreign-Trade Zones Act provides for A. . . the establishment . . . of foreign-trade zones in ports of entry of the United States, to expedite and encourage foreign commerce, and for other purposes,@ and authorizes the Foreign-Trade Zones Board to grant to qualified corporations the privilege of establishing foreign-trade zones in or adjacent to U.S. Customs ports of entry;

Whereas, the Jo-Carroll Foreign Trade Zone Board (the Grantee), a joint-county entity of the Counties of Carroll and Jo-Daviess, Illinois, has made application to the Board (FTZ Docket 56-2005, filed 11/9/05), requesting the establishment of a foreign-trade zone at a site in both counties, adjacent to the Davenport, Iowa/Moline and Rock Island, Illinois, Customs port of entry;

Whereas, notice inviting public comment has been given in the Federal Register (70 FR 69936, 11/18/05); and,

Whereas, the Board adopts the findings and recommendations of the examiner=s report, and finds that the requirements of the FTZ Act and the Board=s regulations are satisfied, and that approval of the application is in the public interest;

Now, therefore, the Board hereby grants to the Grantee the privilege of establishing a foreign-trade zone, designated on the records of the Board as Foreign-Trade Zone No. 271, at the site described in the application, and subject to the Act and the Board's regulations, including Section 400.28, and subject to the Board's standard 2,000-acre activation limit.

Signed at Washington, DC, this 31st day of July 2006.

FOREIGN-TRADE ZONES BOARD
Carlos M. Gutierrez,
Secretary of Commerce, Chairman and Executive Officer.
Attest:
Andrew McGilvray,
Acting Executive Secretary.

[FR Doc. E6-13599 Filed 8-16-06; 8:45 am]

BILLING CODE 3510-DS-S